DEPARTMENT OF DEFENSE

Office of the Secretary

Charter Renewal of Department of Defense Federal Advisory Committees

AGENCY: Department of Defense.

ACTION: Renewal of Federal Advisory Committee.

SUMMARY: The Department of Defense is publishing this notice to announce that it is renewing the charter for the Vietnam War commemoration Advisory Committee (“the Committee”).

FOR FURTHER INFORMATION CONTACT: Jim Freeman, Advisory Committee Management Officer for the Department of Defense, 703-692-5952.

SUPPLEMENTARY INFORMATION: The Committee's charter is being renewed in accordance with the Federal Advisory Committee Act (FACA) of 1972 (5 U.S.C., App) and 41 CFR 102-3.50(d). The Committee's charter and contact information for the Committee's Designated Federal Officer (DFO) can be found at https://www.facadatabase.gov/FACA/apex/FACAPublicAgencyNavigation.

The Committee provides the Secretary of Defense and the Deputy Secretary of Defense, through the Chief Management Officer (CMO) independent advice and recommendations on the Department of Defense (DoD) program on how to best achieve the following objectives in commemorating the 50th Anniversary of the Vietnam War, as referenced in section 598(c) of Public Law 110-181: (a) Thank and honor veterans of the Vietnam War, including personnel who were held as prisoners of war or listed as missing in action, for their service and sacrifice on behalf of the United States and to thank and honor the families of these veterans; (b) highlight the service of the Armed Forces during the Vietnam War and the contributions of Federal agencies and governmental and non-governmental organizations that served with, or in support of, the Armed Forces; (c) Pay tribute to the contributions made on the home front by the people of the United States during the Vietnam War; (d) Highlight the advances in technology, science, and medicine related to military research conducted during the Vietnam War; and (e) Recognize the contributions and sacrifices made by the allies of the United States during the Vietnam War.

The Committee will be composed of no more than 20 members that will represent Vietnam Veterans, their families, and the American public. Candidates for the Committee will be selected from the Military Services (both retired veterans and active members who served during the Vietnam era), the DoD, the Department of State, the Department of Veterans Affairs, and the Intelligence Community. In addition, candidates from nongovernmental organizations that support veterans or contribute to the public's understanding of the Vietnam War will be selected. All members of the Committee are appointed to provide advice on the basis of their best judgment and without representing any particular point of view and in a manner that is free from conflict of interest. Except for reimbursement of official Committee-related travel and per diem, Committee members serve without compensation.

The public or interested organizations may submit written statements to the Committee membership about the Committee's mission and functions. Written statements may be submitted at any time or in response to the stated agenda of planned meeting of the Committee. All written statements shall be submitted to the DFO for the Committee, and this individual will ensure that the written statements are provided to the membership for their consideration.

Dated: November 19, 2018.
Shelly Finke,
Alternate OSD Federal Register, Liaison Officer, Department of Defense.

[FR Doc. 2018-25933 Filed 11-27-18; 8:45 am]

BILLING CODE 5001-06-P